DEPARTMENT OF DEFENSE

Department of the Army

[Docket ID: USA-2024-HQ-0002]

Submission for OMB Review; Comment Request

AGENCY: Department of the Army, Department of Defense (DoD).

ACTION: 30-Day information collection notice.

SUMMARY: The DoD has submitted to the Office of Management and Budget (OMB) for clearance the following proposal for collection of information under the provisions of the Paperwork Reduction Act.

DATES: Consideration will be given to all comments received by July 8, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Experiences of Junior Soldiers in Alaska; OMB Control Number 0702-ALSK.

Type of Request: New.

Number of Respondents: 400.

Responses per Respondent: 1.

Annual Responses: 400.

Average Burden per Response: 30 minutes.

Annual Burden Hours: 200.

Needs and Uses: At the direction of the Vice Chief of Staff of the Army and the Assistant Secretary for Manpower & Reserve Affairs (ASA M&RA), the Army Research Institute for the Behavioral and Social Sciences is completing a longitudinal examination of performance, attitudes, and behaviors of Soldiers who select to come to Alaska as their first duty station at time of enlistment, also known as Option 20 Soldiers. The U.S. Army has initiated a variety of actions aimed at improving quality of life for Soldiers in Alaska in order to reduce rates of harmful behaviors and increase the ability for Soldiers to thrive. This survey collection will collect data from a sample of Army junior enlisted Soldiers in Alaska to investigate the impacts of living and working in Alaska on effectiveness, quality of life, cohesion, leadership, recruiting and retention. ARI is also investigating potential differences between Option 20 Soldiers and Non-Option 20 Soldiers.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DoD Clearance Officer: Mr. Reginald Lucas.

Requests for copies of the information collection proposal should be sent to Mr. Lucas at whs.mc-alex.esd.mbx.dd-dod-information-collections@mail.mil.

Dated: May 30, 2024.
Aaron T. Siegel,
Alternate OSD Federal Register Liaison Officer, Department of Defense.

[FR Doc. 2024-12380 Filed 6-5-24; 8:45 am]

BILLING CODE 6001-FR-P